DEPARTMENT OF DEFENSE

Department of the Navy

Record of Decision for Hawaii Range Complex

AGENCY: Department of the Navy, DoD.

ACTION: Notice of Decision and Availability.

SUMMARY: The Department of the Navy (Navy), after carefully weighing the operational and environmental consequences of the proposed action, announces its decision to support and conduct current and emerging Department of Defense (DoD) training and research, development, test, and evaluation (RDT&E) activities in the Hawaii Range Complex (HRC), and upgrade or modernize range complex capabilities to enhance and sustain training and RDT&E. The Navy considered applicable Executive Orders, including an analysis of the environmental effects of its actions outside the United States or its territories under the provisions of Executive Order 12114 (Environmental Effects Abroad of Major Federal Actions) and the requirements of Executive Order 12898 (Federal Actions to Address Environmental Justice in Minority Populations and Low Income Populations). The proposed action will be accomplished as set out in Alternative 3, described in the Final Environmental Impact Statement/Overseas Environmental Impact Statement (EIS/OEIS) as the preferred alternative. Implementation of the preferred alternative could begin immediately. Because the Navy is required by section 5062 of Title 10 of the United States Code to organize, train, equip, and maintain combat-ready forces, ongoing training and RDT&E activities within the HRC will continue at current levels in the event that the proposed action is not implemented.

SUPPLEMENTARY INFORMATION: The Record of Decision (ROD) has been distributed to all those individuals who requested a copy of the Final EIS/OEIS and agencies and organizations that received a copy of the Final EIS/OEIS. The full text of the ROD is available for public viewing at http://www.govsupport.us/navynepahawaii/downloads.aspx. Single copies of the ROD will be made available upon request by contacting the Public Affairs Officer, Pacific Missile Range Facility, Attn: HRC EIS/OEIS ROD, P.O. Box 128, Kekaha, Hawaii 96752-0128; e-mail: feis_hrc@govsupport.us; or calling the Public Affairs Officer at telephone: 866-767-3347.

Dated: June 26, 2008.
T.M. Cruz,
Lieutenant, Office of the Judge Advocate General, U.S. Navy, Administrative Law Division, Federal Register Liaison Officer.

[FR Doc. E8-15246 Filed 7-3-08; 8:45 am]

BILLING CODE 3810-FF-P